DEPARTMENT OF THE INTERIOR

National Park Service

Final Environmental Impact Statement for the White-tailed Deer Management Plan, Catoctin Mountain Park, MD

AGENCY: Department of the Interior, National Park Service.

ACTION: Notice of Availability of the Final Environmental Impact Statement for the White-tailed Deer Management Plan, Catoctin Mountain Park, Maryland.

SUMMARY: Pursuant to the National Environmental Policy Act of 1969, 42 U.S.C. 4332(2)(C), the National Park Service (NPS) announces the availability of the Final Environmental Impact Statement for the White-tailed Deer Management Plan (FEIS) for Catoctin Mountain Park in Thurmont, Maryland. The plan will support forest regeneration and provide for long-term protection, conservation, and restoration of native species and cultural landscapes at Catoctin Mountain Park. The document describes four management alternatives which include a no action alternative (continue existing management) and three action alternatives, one of which was identified as the preferred alternative.

DATES: The Draft Environmental Impact Statement for the White-tailed Deer Management Plan was on public review from December 1, 2006, through February 2, 2007. Responses to public comments received during that review are addressed in the FEIS. A 30-day no-action period will follow the Environmental Protection Agency's Notice of Availability of the FEIS. After the 30-day no-action period, a Record of Decision will be signed that will document NPS approval of the FEIS and identify the selected alternative for implementation.

ADDRESSES: The FEIS will be available for public review online at the National Park Service Planning, Environment and Public Comment (PEPC) Web site at http://parkplanning.nps.gov/cato by selecting “Deer Management Plan for Catoctin Mountain Park.” Bound copies of the FEIS will also be available at the Catoctin Mountain Park Visitor Center which is located at the intersection of Maryland Route 77 and Park Central Road, and at Catoctin Mountain Park Headquarters which is located approximately two miles west of Thurmont on Maryland Route 77. Copies will also be available at the C. Burr Artz Public Library, 110 East Patrick Street, Frederick, Maryland 21701; the Thurmont Regional Library, 76 East Moser Road, Thurmont, Maryland 21788; the Washington County Free Library, 100 South Potomac Street, Hagerstown, Maryland 21740; and the Smithsburg Library, 66 West Water Street, Smithsburg, Maryland 21783.

FOR FURTHER INFORMATION CONTACT: Becky Loncosky, Park Biologist, at Catoctin Mountain Park, 6602 Foxville Road, Thurmont, Maryland 21788, by telephone at (301) 416-0536, or by e-mail at Becky_Loncosky@nps.gov.

SUPPLEMENTARY INFORMATION: The FEIS evaluates four alternatives for managing white-tailed deer in the park. The document describes and analyzes the environmental impacts of the no-action alternative and three action alternatives. When approved, the plan will guide deer management actions in Catoctin Mountain Park over the next 15 years.

Alternative A (no action) would continue the existing deer management plan of limited fencing, use of repellents in landscaped areas, monitoring, data management, and research; no new deer management actions would be implemented. Alternative B would combine several non-lethal actions including large-scale exclosures (fencing), additional use of repellents in limited areas, and reproductive control of does to gradually reduce deer population in the park. Under Alternative C qualified federal employees or contractors would directly reduce the deer population in the park through sharpshooting. Capture and euthanasia of individual deer would be used in circumstances where sharpshooting would not be appropriate. Alternative C is the NPS preferred alternative. Alternative D would combine actions of Alternatives B and C which would include sharpshooting, capture and euthanasia, and reproductive control of does to maintain population levels. The preferred alternative would fully meet the plan objectives and has more certainty of success than the other alternatives analyzed. The relatively rapid reduction in deer density and browsing pressure on native plant communities and species of special concern would provide beneficial impacts to the natural and cultural resources of the park.

Dated: August 13, 2008.
Lisa A. Mendelson-Ielmini,
Acting Regional Director, National Capital Region.

Editorial Note: This document was received in the Office of the Federal Register on December 9, 2008.

[FR Doc. E8-29513 Filed 12-12-08; 8:45 am]

BILLING CODE 4312-59-P